NATIONAL SCIENCE FOUNDATION

Agency Information Collection Activities: Comment Request

AGENCY: National Science Foundation.

ACTION: Submission for OMB Review; comment request.

SUMMARY: The National Science Foundation (NSF) has submitted the following information collection requirement to OMB for review and clearance under the Paperwork Reduction Act of 1995, Pub. L. 104-13. This is the second notice for public comment; the first was published in the Federal Register 66 FR 46292, and two comments, showing a positive response to NSF's implementation of a web-based job recruitment system, were received. NSF is forwarding the proposed renewal submission to the Office of Management and Budget (OMB) for clearance simultaneously with the publication of this second notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW., Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

Title: Impact of Industry-Engineering Research Center (ERC) Interaction and Effectiveness of ERC-Trained Industrially Employed Engineers.

OMB Control Number: 3145-0153.

Summary of Collection

Proposed Project: NSF's Directorate for Engineering established the Engineering Research Center (ERC) Program in 1985 to address concerns of industry regarding declining U.S. industrial competitiveness. The mission of the Program as defined by the National Academy of Engineering was to strengthen competitiveness by bringing new approaches and goals to academic engineering research and education, and by forging vital new links between universities and industry. The proposed study repeats one conducted when the Program was 10 years old, which studied the outcomes and impacts of ERC involvement upon firms involved with first generation centers. The report study would involve firms formally participating with the eight second-generation centers, which were initiated from FY 1994-96. Data will be collected from the representatives to the ERCs of these firms. Data will NOT be used to evaluate individual centers, but, rather, to study the Program's on-going as a whole.

Use of the Information: The resulting information will be used to identify program-wide patterns of outcomes and impacts on organizations that are members of ERCs. Results will be used for continuous program performance improvement and external reporting, e.g., for the Government Performance and Results Act.

Estimate of Burden: Public reporting burden for this collection of information is estimated to average 30 minutes per response.

Respondents: Individuals.

Estimated Number of Responses Per Form: One.

Estimated Number of Respondents: 291.

Estimated Total Annual Burden on Respondents: 146 hours.

Frequency of Responses: One time.

Dated: February 4, 2002.
Suzanne H. Plimpton,
Reports Clearance Officer.

[FR Doc. 02-2996 Filed 2-6-02; 8:45 am]

BILLING CODE 7555-01-M